DEPARTMENT OF COMMERCE

Technology Administration

Undersecretarial Business Development Mission for Technology Industries to Northern Ireland and the Republic of Ireland October 17-22, 2004

AGENCY: Technology Administration, U.S. Department of Commerce.

ACTION: Notice; request for applications by U.S. technology-based companies representing the information and communications technology (ICT) sector.

SUMMARY: Department of Commerce technology-sector leaders will organize a senior-level business development mission to Belfast and Derry, Northern Ireland (N.I.) and Dublin, Republic of Ireland (R.O.I.).

The focus of the mission is to help U.S. companies explore business opportunities in both Northern Ireland and the Republic of Ireland and the newly expanded EU marketplace. The delegation will include U.S. based senior executives representing the information and communications technology (ICT) sector. Technology products and services have become an increasingly important part of U.S. trade with Northern Ireland and the Republic of Ireland, with both regions possessing highly skilled technology workers and end users.

Therefore, emphasis will also be placed on advancing market awareness, development of strategic alliances in high-technology services and building networks that can further the collaboration of business opportunities in technology related markets.

DATES: Applications for the business development mission to Northern Ireland and the Republic of Ireland will be made available on or about June 1, 2004 (See Timeframe for Applications) and must be completed and received at the address below by no later than August 2, 2004.

ADDRESSES: Please submit applications to Nancy Hesser, Sector Manager, U.S. Commercial Service, U.S. Department of Commerce, 1401 Constitution Avenue, NW., Room 2119, Washington, DC 20230. Applications may also be submitted via fax or e-mail to Nancy Hesser, Sector Manager at (202) 482-2718 or e-mail nancy.hesser@mail.doc.gov.

FOR FURTHER INFORMATION CONTACT: Saul Summerall, International Office of Technology Policy, Technology Administration, U.S. Department of Commerce, telephone: (202) 482-6809; fax: (202) 501-6849; e-mail: saul.Summerall@technology.gov.

Commercial Setting for the Mission

The Republic of Ireland

With 3.9 million people, a vibrant economy, and a young and highly educated workforce, the Republic of Ireland represents an ideal market for U.S. companies seeking to find agents, distributors, and strategic partners for business opportunities in the expanding EU marketplace. For several years, the Republic of Ireland has been the fastest-growing economy in the European Union. For the first time, after years of double-digit growth fueled in part by a rapidly expanding labor force, in 2002 Ireland experienced single-digit real economic growth of 6.9 percent. Due primarily to the appreciation of the euro, growth in the Irish economy dropped further in 2003 to 2.5 percent, slightly below that of the U.S. and Japan, but still keeping Ireland in the lead in Europe. Most economists believe that a maturing Irish economy is well poised to achieve stable annual growth rates over the medium-term of 4 to 5 percent. This is predicated on the Irish investing significantly in infrastructure, especially in transport, energy, and telecommunications.

A member of the European Union (EU) since 1973, the Irish economic model reflects an emphasis on open markets, less government regulation, flexible labor markets, and fiscal incentives to business (including low corporate taxes). As a small-island economy, the Republic of Ireland is dependent on international trade and open access to overseas markets. With a total trade surplus of approximately $24 billion in 2003, Ireland is a net exporting nation. International trade (imports and exports of goods and services) totaled $238 billion in 2003—the equivalent of 150 percent of GDP. In 2003, merchandise exports from Ireland were $93 billion—representing 60 percent of Ireland's Gross Domestic Product (GDP)—while merchandise imports were some $54 billion.

The U.S. and Ireland have strong and deepening economic and commercial links. Total two-way merchandise trade is about $27 billion. The United States is Ireland's second largest trading partner after the United Kingdom. The U.S. share of Ireland's import market is around 15 percent, or $8 billion annually while approximately 15 percent of total Irish exports annually are to the United States. With some $42 billion invested by 570 U.S. firms who employ over 90,000 people, the United States is the largest source of foreign direct investment in the Republic of Ireland. Exports from Ireland by U.S. subsidiaries over the past ten years have accounted for upwards of 30 percent of total Irish exports annually.

The ICT sector has been a key driver to Ireland's remarkable economic growth over the past 15 years, and the Irish government is endeavoring to ensure the sector will continue to play an important role in maintaining strong economic growth in the future. There is also general recognition and appreciation that U.S. foreign direct investment has helped stimulate the ICT sector during this period of rapid economic growth.

This maturing ICT sector with its inherent expertise and acumen of international business principles offers new and exciting opportunities for U.S. ICT firms interested in the Irish and EU markets. Specifically, Ireland offers the prospect of strategic business relationships between U.S. and Irish companies such as joint ventures, licensing arrangements, technology transfer agreements, agent/distributorships, and logistics & valued added services relationships. These linkages allow U.S. companies to capitalize on the skills and knowledge of Irish partners to access and penetrate the Irish and European marketplaces more effectively and efficiently.

Northern Ireland

Geographically, Northern Ireland is the UK's smallest region, being slightly smaller than Connecticut. In recent years, Northern Ireland has enjoyed one of the faster regional growth rates within the United Kingdom, all together it accounts for about 2 percent of the UK economy. Economic growth has been fueled by the province's knowledge revolution, where the high tech sector has benefited from significant support from the EU and the Northern Ireland government in the form of direct incentives and massive investment in education and R&D. The information and communication technology market is one of the fastest growing sectors in Northern Ireland and has been a driving force behind the province enjoying the fastest growth rate of any UK region. The North has also benefited significantly from the dynamic ROI economy. With overall economic growth in the UK now expected to be in excess of 3.5 percent in 2004, the province's economy should continue to be strong.

Northern Ireland has gone through an industrial transformation with over 85 percent of the GDP now generated in the services and high-tech manufacturing sectors. More than 90 percent of jobs generated in recent years have been in the telecommunications, software, and information sectors.

The key investors in Northern Ireland have been U.S. firms, having injected over $4 billion in the last few years. The firms have responded to the fact that Northern Ireland's universities (Queens and University of Ulster) produce a higher percentage of IT qualified students than any other UK region. More than 13 percent of all students graduate with engineering degrees in software, robotics, telecommunications, digital signal processing, biomedical and microelectronics.

There are over 100 American companies invested in Northern Ireland. These investors have created more than 4,000 new jobs in Northern Ireland. Significant investors include Nortel Networks, Allstate, Skillsoft, Seagate Technology, Liberty Mutual, Raytheon, and Allen Systems Group. Software firms are buoyed by access to and support from many research centers including the Northern Ireland Knowledge Engineering Laboratory, the Digital Signal Processing and System-on-Chip laboratories, and the Northern Ireland Center for e-Business. Communications firms are supported by the Institute for Electronic Communications and Information Technology, the Advanced Telecommunications Laboratory, the Center for Advanced Materials, the Semiconductor Research Center and the Bio-Engineering Center.

Although the message from Northern Ireland is good, it must be understood that Northern Ireland is not a significant location for agents/distributors. Firms located in either the Republic of Ireland and Great Britain have historically performed that function. While the small Northern Ireland population indicates there is only a minor market for U.S. sales, the provinces' high-tech expertise offers abundant potential for strategic alliances and other two-way relationships; e.g., exchanging software, contracting services and prospective business development opportunities.

Goals for the Mission

The business development mission will further both U.S. commercial policy objectives and advance specific business interests. The mission is focused on:

• Introducing U.S. companies to the Northern Ireland and Republic of Ireland markets and furthering commercial relationships.

• Assisting small and new-to-market U.S. firms in evaluating the market potential for their products and to gain an understanding of how to operate successfully in the Northern Ireland and Republic of Ireland markets, and the recently expanded EU marketplace.

• Highlighting market accessibility and successes of U.S. businesses in these markets.

• Fostering dialog between policy makers and academics in the technology arena of the U.S., Northern Ireland, and the Republic of Ireland.

• Providing access to senior government officials and potential business partners for U.S. firms.

Scenario for the Mission

The Business Development Mission is a two and three day business program designed to provide participants with exposure to business, academic, and government contacts with an understanding of market and technology trends and the commercial environment of Northern Ireland and the Republic of Ireland.

Senior officials from two of the Department of Commerce's leading bureaus, charged with advancing the interests of the technology and telecommunication sectors, will lead the mission. The Technology Administration (TA) and the National Telecommunications and Information Administration (NTIA) are well suited to facilitate policy discussions with their Irish counterparts.

Further, U.S. Embassy and Consulate General officials will provide detailed briefings on the economic, commercial and political climates, and participants will receive individual counseling on their specific interests from U.S. Commercial Service industry specialists. Meetings will be arranged as appropriate with senior government decision makers, academic/technical institutions and relevant businesses. Representational events also will be organized to provide mission participants with opportunities to meet senior business and government representatives, as well as resident U.S. business people.

The tentative trip itinerary will be as follows:

Sunday, October 17—Arrive Belfast, Northern Ireland, evening events and briefing.

Monday, October 18—One-on-One Business Meetings in Belfast, Group policy meetings.

Tuesday, October 19—Business and Policy Meetings in Derry, Travel to Dublin, Republic of Ireland.

Wednesday, October 20—One-on-One Business Meetings; Group policy meetings, mission events, and briefings in Dublin.

Thursday, October 21—One-on-One Business Meetings, Group policy meetings, mission events, and briefings in Dublin.

Friday, October 22—Departure.

The precise schedule will depend in part on the availability of local government and business officials and the specific goals of the mission participants.

Criteria for Participation of Companies

Eligibility

Participating companies must be incorporated in the United States. A company is eligible to participate only if the products and/or services that it will promote (a) are manufactured or produced in the United States; or (b) if manufactured or produced outside the United States, are marketed under the name of a U.S. firm and have U.S. content representing at least 51 percent of the value of the finished good or service.

Selection Criteria

Company participation will be determined on the basis of:

• Relevance of the company's business line to the mission scope and goals.

• Potential for business activity in Northern Ireland and the Republic of Ireland as applicable.

• Level of seniority of the designated company representatives and consistency of company's goals with the scope and desired outcome of the mission as described herein.

• Timely receipt of a completed application and participation agreement signed by a company officer and the participation fee.

• Provision of adequate information on the company's products and/or services, and communication of the company's primary objectives to facilitate appropriate matching with potential business partners.

In addition, the Department may consider whether the company's overall business objectives, including those of any U.S. or overseas affiliates, are fully consistent with the mission's objectives. Any partisan political activities of an applicant, including political contributions, will be entirely irrelevant to the selection process.

Time Frame for Applications

Applications for the business development mission to Northern Ireland and the Republic of Ireland will be made available on or about June 1, 2004. The fee to participate in the mission will be between $2,500.00 and $3,500.00 (depending on the size of the business delegation) and will not cover travel or lodging expenses. For additional information on the business development mission or to obtain an application, respondents should refer to the contacts listed below. Completed applications should be submitted to the address below by August 2, 2004 to ensure timely arrangements for in-country appointments for applicants selected to participate in the mission.

Nancy Hesser, Sector Manager, U.S. Commercial Service, U.S. Department of Commerce, 1401 Constitution Avenue, NW., Room 2119, Washington, DC 20230. Telephone (202) 482-4663, e-mail: nancy.hesser@mail.doc.gov.

Applications may also be submitted via fax to (202) 482-2718 by August 2, 2004. Applications received after that date will be considered only if space and scheduling constraints permit.

The name, telephone number, and address for the contact person for the business development mission is:

Saul Summerall, International Office of Technology Policy, Technology Administration, U.S. Department of Commerce, 1401 Constitution Avenue, NW., Room 4817, Washington, DC 20230, Telephone: (202) 482-6809, Fax: (202) 501-6849, e-mail: Saul.Summerall@technology.gov.

Dated: May 18, 2004.
Benjamin Wu,
Deputy Under Secretary for Technology.

[FR Doc. 04-11929 Filed 5-25-04; 8:45 am]

BILLING CODE 3510-GN-P